DEPARTMENT OF HEALTH AND HUMAN SERVICES

Office of Inspector General

Program Exclusions: October 2005

AGENCY: Office of Inspector General, HHS.

ACTION: Notice of program exclusions.

During the month of October 2005, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name/address | Effective date
PROGRAM-RELATED CONVICTIONS
ADAIR, KARISTA | 11/20/2005
LEWISBURG, TN
AUSTIN, HOWARD | 11/20/2005
OAKDALE, LA
BAILEY, LAWRENCE | 11/20/2005
SHREVEPORT, LA
BESAW NALEN, KIMBERLY | 11/20/2005
MANCHESTER, NH
BLACK, ANTONIA | 11/20/2005
FLINT, TX
CONVENIENT DENTAL CARE CENTER, PC | 11/20/2005
OKEMOS, MI
DE LA CRUZ, ALFONSO | 11/20/2005
LOS ANGELES, CA
ERLICH, RUSSELL | 11/20/2005
BROOKLYN, NY
FLORES, SILVIA | 11/20/2005
ONTARIO, CA
GARCIA, ROSEMARIE | 11/20/2005
SAN DIEGO, CA
HAMILTON BENNETT, MAISHA | 11/20/2005
CHICAGO, IL
HAWKINS, KIMBERLY | 11/20/2005
SHAKOPEE, MN
HERNANDEZ, KAREN | 11/20/2005
OKLAHOMA CITY, OK
KATZ, RONALD | 11/20/2005
OTISVILLE, NY
KEMMETT, BARBARA | 11/20/2005
BRIDGEWATER, MA
KUBRICKY, MARK | 11/20/2005
OGDEN, UT
LAKHTER, ALEXANDER | 11/20/2005
E STROUDSBURG, PA
LEBEL, ALEXANDER | 11/20/2005
BROOKLYN, NY
LEEDS, LORI | 11/20/2005
SHAKOPEE, MN
LITTLE, MARK | 11/20/2005
ANTHONY, TX
MALVAREZ, NORBERTO | 11/20/2005
MIAMI, FL
MARTINEZ, CESAR | 11/20/2005
MIAMI, FL
MORAN, PAT | 11/20/2005
WICHITA FALLS, TX
SHUMATE, TAMMY | 11/20/2005
LOUISVILLE, KY
UTUK, BECALO | 11/20/2005
BRYAN, TX
VU, PHOUA | 11/20/2005
SAN DIEGO, CA
WALLACE, SHIRLEY | 11/20/2005
JONESBORO, AR
WILLIAMS-WRIGHT, MYRA | 11/20/2005
MIAMI, FL
FELONY CONVICTION FOR HEALTH CARE FRAUD
CHAVEZ, WILLIAM | 11/20/2005
MIAMI, FL
GONZALEZ, DUVIEL | 11/20/2005
MIAMI, FL
GORRIN, EDDY | 11/20/2005
MIAMI, FL
KRZYS, PENNY | 11/20/2005
ASHTABULA, OH
FELONY CONTROL SUBSTANCE CONVICTION
BROWN, MARY | 11/20/2005
MARICOPA, AZ
CASTAGNETTI, LEINA | 11/20/2005
HILO, HI
GUY, CRYSTAL | 11/20/2005
COLUMBIA, MS
ILIADES, EMMANUEL | 11/20/2005
CENTERVILLE, MA
MASCOLO, JOSEPHINE | 11/20/2005
ELMWOOD PARK, NJ
MEHTA, DONNA | 11/20/2005
CHATTANOOGA, TN
THATCHER, GILIE | 11/20/2005
CHARLOTTESVILLE, VA
WELCH, PAUL | 11/20/2005
EDGEFIELD, SC
PATIENT ABUSE/NEGLECT CONVICTIONS
ACKLEY, CHRISTINE | 11/20/2005
CANON CITY, CO
BEDDIE, ELIZABETH | 11/20/2005
BURLINGTON, VT
COLBY, DEBORAH | 11/20/2005
EAST PROVIDENCE, RI
COOK, SHANNON | 11/20/2005
FRESNO, CA
CRUZ, EVELYN | 11/20/2005
BROOKLYN, NY
HALLMARK NURSING CENTER, INC | 11/20/2005
SCHENECTADY, NY
MANLAPAZ, CARLOS | 11/20/2005
CERRITOS, CA
PRIMO, ROFINO | 11/20/2005
LONDON, OH
SANDY, ANJI | 11/20/2005
MCLOUD, OK
YOUNG, LAKEYSHA | 11/20/2005
MONTGOMERY, AL
CONVICTION FOR HEALTH CARE FRAUD
BROWNING, MISTY | 11/20/2005
WALLKER, LA
JUNKINS, MICHELLE | 11/20/2005
HAMPTON, ME
SPOTWOOD, JEFFREY | 11/20/2005
VERNON, TX
LICENSE REVOCATION/SUSPENSION/SURRENDERED
ABBINANTE, ROBIN | 11/20/2005
MADISON, AL
ALOISI, MARTHA | 11/20/2005
WORCESTER, MA
ANDREWS, TRACIE | 11/20/2005
ORMOND BEACH, FL
BAIRD, TIMOTHY | 11/20/2005
PARKERS LAKE, KY
BILODEAU, JOHN | 11/20/2005
HOOKSETT, NH
BRINSER, STACEY | 11/20/2005
PINETOP, AZ
CARTER, BRENDA | 11/20/2005
HOOVER, AL
CAUDILL, TAMMY | 11/20/2005
FLATWOODS, KY
CAVANAUGH, TRACIE | 11/20/2005
RENSSELAER, NY
CHAN, DENNIS | 11/20/2005
SACRAMENTO, CA
CLAYTON, MICHELLE | 11/20/2005
VERNON, VT
COLBY, JULIE | 11/20/2005
BYFIELD, MA
CORBETT, KELLY | 11/20/2005
LAGUNA BEACH, CA
CUNNINGHAM, RICHARD | 11/20/2005
DAPHNE, AL
DAVIS, LACIANA | 11/20/2005
METAIRIE, LA
DENHALTER, MARY | 11/20/2005
CLEARFIELD, UT
DENTON, TAMMY | 11/20/2005
MORTON, MS
DINKINS, LINDA | 11/20/2005
JACKSONVILLE, FL
DOVE, LAURA | 11/20/2005
SHREVEPORT, LA
DUBRULE, ROSAIRE | 11/20/2005
TIPTONVILLE, TN
ECKLUND, DAN | 11/20/2005
SILVERHILL, AL
FARCHIONE, LOUIS | 11/20/2005
PITTSFORD, NY
FENSKE, JOANA | 11/20/2005
TUCSON, AZ
FLOYD, AMANDA | 11/20/2005
MARIETTA, MS
FRANKS, SUSANN | 11/20/2005
TOWN CREEK, AL
GIRARDI, DEBORAH | 11/20/2005
NAPLES, FL
GIROUARD, MARGARET | 11/20/2005
BEDFORD, MA
GOEPP, JULIUS | 11/20/2005
ROCHESTER, NY
GOODLUCK-JONES, KANDY | 11/20/2005
PHOENIX, AZ
GULLEDGE, WILLIAM | 11/20/2005
MOUNDVILLE, AL
HANSON, ROBIN | 11/20/2005
LOGANSPORT, LA
HARRIS, KANDY | 11/20/2005
MAYFIELD, KY
HAVARD, REBA | 11/20/2005
MOBILE, AL
HOLLAND, ANNISSA | 11/20/2005
MILLRY, AL
JOHNSON, ROSIE | 11/20/2005
HATTIESBURG, MS
JONES, CINDY | 11/20/2005
LONE WOLF, OK
KASH, CONNIE | 11/20/2005
CAMPTON, KY
KINCHEN, STACEY | 11/20/2005
NEW BERLIN, WI
KROL, GERALD | 11/20/2005
EVERGREEN PARK, IL
LANDRUM, DEBORAH | 11/20/2005
FT MYERS, FL
LONGWOOD MASSAGE AND TANNING STUDIO | 11/20/2005
LONGWOOD, FL
LOPEZ, LISA | 11/20/2005
WILDWOOD, FL
MABE, MARY | 11/20/2005
LAKE FOREST, CA
MACKEY, CHARLOTTE | 11/20/2005
WEST HOLLYWOOD, CA
MAESTRE, NANCY | 11/20/2005
KEYSTONE HEIGHTS, FL
MARRON, TIMOTHY | 11/20/2005
APACHE JUNCTION, AZ
MARTIN, ELIZABETH | 11/20/2005
DOTHAN, AL
MARTINEZ, SYNTHIA | 11/20/2005
TYLER, TX
MCBRIDE, MARGO | 11/20/2005
ANNAPOLIS, MD
MCCALL, STEVEN | 11/20/2005
GOODYEAR, AZ
MCCOY, TIERRA | 11/20/2005
RICHMOND, VA
MCGEOGHEAN, ANTOINETTE | 11/20/2005
GILFORD, NH
MCHUGH, LAURA | 11/20/2005
CHELMSFORD, MA
MCMAHON, KATHY | 11/20/2005
MOSA POINT, MS
MIRANNE, CHRISTOPHER | 11/20/2005
OAKLAND, CA
MORRIS, LAWRENCE | 11/20/2005
FT LAUDERDALE, FL
O'DAY, JAMES | 11/20/2005
CANTON, MI
PALUMBO, TAMARA | 11/20/2005
GOLDEN, CO
PATTERSON, ENOLA | 11/20/2005
SPRINGFIELD, IL
PAYTON, JEAN | 11/20/2005
GRENADA, MS
PEEPLES, DEBRA | 11/20/2005
DINSMORE, FL
PETERS, ALONZO | 11/20/2005
HOUSTON, TX
RAINEY, APRIL | 11/20/2005
DAYTON, NV
RICHARD, MARY | 11/20/2005
SPRINGFIELD, IL
SANDS, VANESSA | 11/20/2005
PHOENIX, AZ
SCALLY, MICHAEL | 11/20/2005
HOUSTON, TX
SCHIRMER, BARBARA | 11/20/2005
DUDLEY, NC
SCHWARTZ, MONTY | 11/20/2005
OAKLAND, FL
SHAFFER, CYNTHIA | 11/20/2005
CLEARWATER, FL
SINDERS, DONITTA | 11/20/2005
DUGGER, IN
STREETER, WILBERT | 11/20/2005
TOPEKA, IN
URSIDA, JOSEPH | 11/20/2005
ALIQUIPPA, PA
VOIT, SHARON | 11/20/2005
DWIGHT, IL
WARD, TINIKA | 11/20/2005
HATTIESBURG, MS
WEISS, LEENA | 11/20/2005
MERRITT ISLAND, FL
WILLIAMS, LEANNE | 11/20/2005
TUPELO, MS
WILLIAMS, SUSAN | 11/20/2005
WAKE FOREST, NC
WILMSHURST, SANDRA | 11/20/2005
VAN NUYS, CA
WOODALL, JOHN | 11/20/2005
PARIS, KY
OWNED/CONTROLLED BY CONVICTED ENTITIES
INTEGRITY OXYGEN & MEDICAL EQUIPMENT, INC | 11/20/2005
SHREVEPORT, LA
JACKSONVILLE HEALTH CARE SYSTEMS INC | 11/20/2005
JACKSONVILLE, FL
OK MEDICAL EQUIPMENT & SUPPLY COMPANY LLC | 11/20/2005
SOUTHFIELD, MI
OLD TOWNE CHIROPRACTIC | 11/20/2005
CHISAGO CITY, MN
DEFAULT ON HEAL LOAN
ESTE-MCDONALD, JAIME | 11/20/2005
ANDOVER, MA
RATLIFF, CYNTHIA | 11/20/2005
APTOS, CA
SNOW, EDDIE | 11/20/2005
OAKLAND, CA
WELLMAN, FRED | 11/20/2005
FLORENCE, MA
WOODS, REBEKAH | 11/20/2005
LOUISVILLE, KY
OWNERS OF EXCLUDED ENTITIES
ZAGERMAN, RHEA | 11/20/2005
FARMINGTON HILLS, MI

Dated: November 1, 2005.
Katherine B. Petrowski,
Director, Exclusions Staff, Office of Inspector General.

[FR Doc. 05-22438 Filed 11-9-05; 8:45 am]

BILLING CODE 4152-01-P